DEPARTMENT OF ENERGY

Federal Energy Regulatory Commission

[Docket No. CP07-208-000]

Rockies Express Pipeline LLC; Notice of Technical Conference

July 28, 2008.

On August 5, 2008, staff of the Office of Energy Projects (OEP) will hold a technical conference for the REX East Project. Rockies Express Pipeline LLC requested the Technical Conference to discuss compliance with Environmental Condition 147 of the Commission's May 30, 2008 Order.

The technical conference will be held on Tuesday, August 5, 2008, at 9 a.m. (EDT) in Room 3M-2B at the Commission Headquarters, 888 1st Street, NE., Washington, DC.

Information concerning any changes to the above may be obtained from the Commission's Office of External Affairs at (202) 502-8004 or toll free at 1-866-208-FERC (208-3372).

Kimberly D. Bose,
Secretary.

[FR Doc. E8-17877 Filed 8-4-08; 8:45 am]

BILLING CODE 6717-01-P